DEPARTMENT OF THE INTERIOR

National Park Service

[N6713; NPS-WASO-NAGPRA-NPS0041455; PPWOCRADN0-PCU00RP14.R50000]

Notice of Intended Repatriation: Fine Arts Museums of San Francisco, San Francisco, CA

AGENCY: National Park Service, Interior.

ACTION: Notice.

SUMMARY: In accordance with the Native American Graves Protection and Repatriation Act (NAGPRA), the Fine Arts Museums of San Francisco (FAMSF) intends to repatriate certain cultural items that meet the definition of objects of cultural patrimony and that have a cultural affiliation with the Indian Tribes or Native Hawaiian organizations in this notice.

DATES: Repatriation of the cultural items in this notice may occur on or after January 20, 2026.

ADDRESSES: Send additional, written requests for repatriation of the cultural items in this notice to Christina Hellmich, Fine Arts Museums of San Francisco, 50 Hagiwara Tea Garden Drive, San Francisco, CA 94118, email chellmich@famsf.org.

SUPPLEMENTARY INFORMATION: This notice is published as part of the National Park Service's administrative responsibilities under NAGPRA. The determinations in this notice are the sole responsibility of FAMSF and additional information on the determinations in this notice, including the results of consultation, can be found in the summary or related records. The National Park Service is not responsible for the determinations in this notice.

Abstract of Information Available

A total of two cultural items have been requested for repatriation. The two objects claimed as cultural patrimony are two baskets identified in museum records as “Kern County, California.” FAMSF accessioned a bottleneck basket (Acc. 21466) on May 10, 1902 as a gift from “Mr. Ed. McLeod.” FAMSF accessioned a cup-shaped feather basket (Acc. 46767) on December 31, 1919 as a gift from Mrs. A.G. Boggs. These baskets have been physically on loan to the California Department of Parks and Recreation (CDPR) since 1958, but are under the control of FAMSF. At some point after 1958, the bottleneck basket (Acc. 21466) was noted as Kawaiisu, Shoshonean, and Paiute in CDPR collections records. At some point after 1958, the cup-shaped feather basket (Acc. 46767) was noted as Yuki (?), Huchnom (?) in CDPR collections records. There is no known documentation of the presence of any potentially hazardous substances used to treat any of the cultural items.

Determinations

In consultation with affiliated Tribal representatives, FAMSF has determined that:

• The two objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Tejon Indian Tribe.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, FAMSF must determine the most appropriate requestor prior to repatriation. Requests for joint repatriation of the cultural items are considered a single request and not competing requests. FAMSF is responsible for sending a copy of this notice to the Indian Tribes and Native Hawaiian organizations identified in this notice and to any other consulting parties.

Authority: Native American Graves Protection and Repatriation Act, 25 U.S.C. 3004 and the implementing regulations, 43 CFR 10.9.

Dated: November 25, 2025.
Melanie O'Brien,
Manager, National NAGPRA Program.

[FR Doc. 2025-23159 Filed 12-17-25; 8:45 am]

BILLING CODE 4312-52-P